AGENCY FOR INTERNATIONAL DEVELOPMENT

Board for International Food and Agricultural Development; Notice of Meeting

Pursuant to the Federal Advisory Committee Act, notice is hereby given of the public meeting of the Board for International Food and Agricultural Development (BIFAD). The meeting will be held from 8:00 a.m. to 12:00 p.m. CDT on Wednesday, October 12, 2016, at the Salon D, Des Moines Marriott Hotel, 700 Grand Avenue, Des Moines, IA 50309. The meeting will be streamed live on the Internet. The link to the global live stream is on BIFAD's home page: http://www.usaid.gov/bifad.

The central theme of this public meeting will be Metrics for Accountability: Tracking Progress and Identifying Gaps in Development Investments. Dr. Brady Deaton, BIFAD Chair, will preside over the public business meeting, which will begin promptly at 8:00 a.m. CDT with opening remarks. At this meeting, the Board will address old and new business and hear updates from USAID and the university community. The purpose of the session is to examine results frameworks, assumptions, evidence, and M&E systems as a basis for tracking progress and learning, and adjusting investments towards achieving the 2030 development goals.

Starting at 8:45 a.m., Beth Dunford, Deputy Coordinator for Development for Feed the Future and Assistant to the Administrator, USAID Bureau for Food Security, will provide an update on Feed the Future and the recently released report, A Food-Secure 2030. Then Emily Hogue, Team Lead for Monitoring Evaluation and Learning Team Lead, USAID Bureau for Food Security will present on the Feed the Future accountability framework, progress, and learning.

The panel respondents will begin, following a short break, at 10:30 a.m. CDT. Presenters on this panel are Pietro Gennari, Director, Statistics Division, UN Food and Agriculture Organization, Richard Caldwell, Senior Program Officer, Monitoring Learning and Evaluation, Bill and Melinda Gates Foundation, Paul Winters, Director of the Research and Impact Assessment Division, International Fund for Agricultural Development, and David Ameyaw, Director, Monitoring and Evaluation, Alliance for a Green Revolution in Africa.

At 11:30 a.m. CDT, Chairman Deaton will moderate a half-hour public comment period. At 12:00 p.m., Dr. Deaton will make closing remarks and adjourn the public meeting.

Those wishing to attend the meeting or obtain additional information about BIFAD should contact Clara Cohen, Designated Federal Officer for BIFAD in the Bureau for Food Security at USAID. Interested persons may write to her in care of the U.S. Agency for International Development, Ronald Reagan Building, Bureau for Food Security, 1300 Pennsylvania Avenue NW., Washington, DC 20523-2110 or telephone her at (202) 712-0119.

Karen Duca,
Senior Policy Advisor, Division for Human and Institutional Capacity Developmentm (HICD)-BIFAD, Office of Agricultural Research and Policy, Bureau for Food Security.

[FR Doc. 2016-23648 Filed 9-27-16; 4:15 pm]

BILLING CODE P